NUCLEAR REGULATORY COMMISSION

[NRC-2014-0004]

Aging Management of Loss of Coating Integrity for Internal Service Level III (Augmented) Coatings

AGENCY: Nuclear Regulatory Commission.

ACTION: Draft license renewal interim staff guidance; request for comment.

SUMMARY: The U.S. Nuclear Regulatory Commission (NRC) requests public comment on the draft License Renewal Interim Staff Guidance (LR-ISG), LR-ISG-2013-01, “Aging Management of Loss of Coating Integrity for Internal Service Level III (augmented) Coatings.” The draft LR-ISG proposes to add a new NRC staff-recommended aging management program (AMP), new aging management review (AMR) items, and new age-related definitions in NUREG-1801, Revision 2, “Generic Aging Lessons Learned (GALL) Report.” The draft LR-ISG also adds new AMR items and changes to the Final Safety Analysis Supplement program description in NUREG-1800, Revision 2, “Standard Review Plan for Review of License Renewal Applications for Nuclear Power Plants” (SRP-LR). These changes address new recommendations related to Service Level III (augmented) (a new term) internal coatings in piping, tanks, and heat exchangers.

DATES: Submit comments by February 24, 2014. Comments received after this date will be considered, if it is practical to do so, but the NRC staff is able to ensure consideration only for comments received on or before this date.

ADDRESSES: You may submit comments by any of the following methods (unless this document describes a different method for submitting comments on a specific subject):

• Federal Rulemaking Web site: Go to http://www.regulations.gov and search for Docket ID NRC-2014-0004. Address questions about NRC dockets to Carol Gallagher; telephone: 301-287-3422; email: Carol.Gallagher@nrc.gov. For technical questions, contact the individual(s) listed in the FOR FURTHER INFORMATION CONTACT section of this document.

• Mail comments to: Cindy Bladey, Chief, Rules, Announcements, and Directives Branch, Office of Administration, Mail Stop: 3WFN, 06-44M, U.S. Nuclear Regulatory Commission, Washington, DC 20555-0001.

For additional direction on accessing information and submitting comments, see “Accessing Information and Submitting Comments” in the SUPPLEMENTARY INFORMATION section of this document.

FOR FURTHER INFORMATION CONTACT: William Holston, Office of Nuclear Reactor Regulation, U.S. Nuclear Regulatory Commission, Washington, DC 20555-0001; telephone: 301-415-8573; email: William.Holston@nrc.gov.

SUPPLEMENTARY INFORMATION:

I. Accessing Information and Submitting Comments

A. Accessing Information

Please refer to Docket ID NRC-2014-0004 when contacting the NRC about the availability of information regarding this document. You may access publicly available information related to this action by the following methods:

• Federal Rulemaking Web site: Go to http://www.regulations.gov and search for Docket ID NRC-2014-0004.

• NRC's Agencywide Documents Access and Management System (ADAMS): You may access publicly available documents online in the NRC Library at http://www.nrc.gov/reading-rm/.html by selecting “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The draft LR-ISG-2013-01 is available electronically under ADAMS Accession No. ML13262A442. The GALL Report and SRP-LR are available under ADAMS Accession Nos. ML103490041 and ML103490036, respectively.

• NRC's PDR: You may examine and purchase copies of public documents at the NRC's PDR, Room O1-F21, One White Flint North, 11555 Rockville Pike, Rockville, Maryland 20852.

B. Submitting Comments

Please include Docket ID NRC-2014-0004 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

The draft LR-ISG proposes to add a new NRC staff-recommended aging management program, new aging management review items, and new age-related definitions in NUREG-1801, Revision 2, “Generic Aging Lessons Learned Report.” The draft LR-ISG also adds new AMR items and changes to the Final Safety Analysis Supplement program description in NUREG-1800, Revision 2, “Standard Review Plan for Review of License Renewal Applications for Nuclear Power Plants.” These changes address new recommendations related to Service Level III (augmented) internal coatings in piping, tanks, and heat exchangers within the scope of part 54 of Title 10 of the Code of Federal Regulations (10 CFR), “Requirements for Renewal of Operating Licenses for Nuclear Power Plants.”

The NRC issues LR-ISGs to communicate insights and lessons learned and to address emergent issues not covered in license renewal guidance documents, such as the GALL Report and SRP-LR. In this way, the NRC staff and stakeholders may use the guidance in an LR-ISG document before it is incorporated into a formal license renewal guidance document revision. The NRC staff issues LR-ISGs in accordance with the LR-ISG Process, Revision 2 (ADAMS Accession No. ML100920158), for which a notice of availability was published in the Federal Register on June 22, 2010 (75 FR 35510).

The NRC staff has developed LR-ISG-2013-01 to address: loss of coating integrity due to blistering, cracking, flaking, peeling, or physical damage of Service Level III (augmented) internal coatings in piping, tanks, and heat exchangers within the scope of 10 CFR Part 54.

III. Proposed Action

By this action, the NRC is requesting public comments on draft LR-ISG-2013-01. This LR-ISG proposes certain revisions to NRC guidance on implementation of the requirements in 10 CFR Part 54. The NRC staff will make a final determination regarding issuance of the LR-ISG after it considers any public comments received in response to this request.

Dated at Rockville, Maryland, this 6th day of January 2014.
For the Nuclear Regulatory Commission.
Melanie A. Galloway,
Deputy Director, Division of License Renewal, Office of Nuclear Reactor Regulation.

[FR Doc. 2014-00247 Filed 1-9-14; 8:45 am]

BILLING CODE 7590-01-P